DEPARTMENT OF HEALTH AND HUMAN SERVICES

Centers for Medicare & Medicaid Services

[Document Identifier CMS-10594, CMS-10595, CMS-10628 and CMS-10142]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by February 9, 2023.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Extension of a currently approved collection; Title of Information Collection: Provider Network Coverage Data Collection; Use: The Patient Protection and Affordable Care Act (Pub. L. 111-148) was signed into law on March 23, 2010. On March 30, 2010, the Health Care and Education Reconciliation Act of 2010 (Pub. L. 111-152) was signed into law. The two laws are collectively referred to as the Affordable Care Act (ACA). The ACA established competitive private health insurance markets called Marketplaces, or Exchanges, which gave millions of Americans and small businesses access to affordable, quality insurance options that meet certain requirements. These requirements include ensuring sufficient choice of providers and providing information to enrollees and prospective enrollees on the availability of in-network and out-of-network providers.

In the final rule, the Patient Protection and Affordable Care Act; HHS Notice of Benefit and Payment Parameters for 2017 (CMS-9937-P), we finalized network adequacy standards for qualified health plan (QHP) issuers, including stand-alone dental plans (SADPs) mostly focused on issuers in QHPs in the Federally-facilitated Exchanges (FFEs). This information collection notice is for two of the standards from the rule: one applying in the FFE and one applying to all QHPs. Specifically, under 45 CFR 156.230(d) and 156.230(e), we require notification requirements for enrollees in cases where a provider leaves the network and for cases where an enrollee might be seen by an out of network ancillary provider in an in-network setting. These standards will help inform consumers about his or her health plan coverage to better make cost effective choices. The Centers for Medicare and Medicaid Services (CMS) is updating an information collection request (ICR) in connection with these standards. The burden estimates for this ICR included in this package reflects the additional time and effort for QHP issuers to provide these notifications to enrollees. Form Number: CMS-10594 (OMB control number 0938-1302); Frequency: Annually; Affected Public: Private Sector (business or other for-profits, not-for-profit institutions); Number of Respondents: 374; Number of Responses: 374; Total Annual Hours: 551,276. (For policy questions regarding this collection contact Nicole Levesque at nicole.levesque@cms.hhs.gov).

2. Type of Information Collection Request: Extension of a currently approved collection; Title of Information Collection: Third Party Payment of QHP Premiums and Additional Notices for QHP Issuers Data Collection; Use: The Patient Protection and Affordable Care Act (Pub. L. 111-148) and Health Care and Reconciliation Act of 2010 (Pub. L. 111-152), collectively referred to as PPACA, established new competitive private health insurance markets called Marketplaces, or Exchanges, which gave millions of Americans and small businesses access to qualified health plans (QHPs), including stand-alone dental plans (SADPs)-private health and private health and dental insurance plans that have been certified as meeting certain standards.

In the final rule, the Patient Protection and Affordable Care Act, HHS Notice of Benefit and Payment Parameters for 2017 (CMS-9937-F), we finalized 45 CFR 156.1256, which requires QHP issuers, in the case of a material plan or benefit display error included in 45 CFR 155.420(d)(12), to notify their enrollees of the error and the enrollees' eligibility for a special enrollment period (SEP) within 30 calendar days after the issuer is informed by an Federally-facilitated Exchange (FFE) that the error is corrected, if directed to do so by the FFE. This requirement provides notification to QHP enrollees of errors that may have impacted their QHP selection and enrollment and any associated monthly or annual costs, as well as the availability of an SEP under 155.420(d)(12) for the enrollee to select a different QHP, if desired. The Centers for Medicare and Medicaid Services (CMS) is formally submitting this renewal information collection request (ICR) to OMB for 3-year approval in connection with standards regarding Plan or Display Errors and SEPs. The portion of the ICR related to Third Party Payments has been removed. The burden estimate for the ICR included in this package reflects the time and effort for QHP issuers to provide notifications to enrollees on the ICRs regarding Plan or Display Errors and SEPs. Form number: CMS-10595 (OMB control number: 0938-1301); Frequency: Annually; Affected Public: Private Sector (business or other for-profits, not-for-profit institutions); Number of Respondents: 374; Number of Responses: 374; Total Burden Hours: 293. (For questions regarding this collection contact Samantha Nguyen Kella at 816-426-6339).

3. Type of Information Collection Request: Reinstatement of a previously approved collection; Title of Information Collection: Initial Request for State Implemented Moratorium Form; Use: Congress has enacted section 1866 (j)(7) of the Social Security Act, which allows for the imposition of temporary moratorium. CMS promulgated 42 CFR 424.570 in order to comply with that statute, which requires that prior to implementing state Medicaid moratoria the state Medicaid agency must notify the Secretary in writing, including all of the details of the moratoria, and obtain the Secretary's concurrence with the imposition of the moratoria.

The Initial Request for State Medicaid Implemented Moratorium, named the “Initial Request for State Medicaid Implemented Moratorium” has been created to collect that data, in a uniform manner, which the states report to CMS when they request a moratorium. Currently, CMS is collecting this data on an ad-hoc basis, however this process needs to be standardized so that moratoria decisions are being made based on the same criteria each time. The form may be used by states and territories who wish to impose a Medicaid or Children's Health Insurance Program moratorium. CMS will use this information as a standardized method to collect and track state-imposed moratoria requests. Form number: CMS-10628 (OMB control number: 0938-1328); Frequency: Occasionally; Affected Public: State, Local, or Tribal Governments; Number of Respondents: 5; Number of Responses: 5; Total Burden Hours: 25. (For questions regarding this collection contact Alisha Sanders at 410-786-0671).

4. Type of Information Collection Request: Revision of a currently approved collection; Title of Information Collection: Bid Pricing Tool (BPT) for Medicare Advantage (MA) Plans and Prescription Drug Plans (PDP); Use: Medicare Advantage organizations (MAO) and Prescription Drug Plans (PDP) are required to submit an actuarial pricing “bid” for each plan offered to Medicare beneficiaries for approval by CMS. The MAOs and PDPs use the Bid Pricing Tool (BPT) software to develop their actuarial pricing bid. The competitive bidding process defined by the “The Medicare Prescription Drug, Improvement, and Modernization Act” (MMA) applies to both the MA and Part D programs. It is an annual process that encompasses the release of the MA rate book in April, the bid's that plans submit to CMS in June, and the release of the Part D and RPPO benchmarks, which typically occurs in August. Form number: CMS-10142 (OMB control number: 0938-0944); Frequency: Annually; Affected Public: Private Sector, Business or other for-profits, Not-for-profit institutions; Number of Respondents: 555; Number of Responses: 4,995; Total Burden Hours: 149,850. (For questions regarding this collection contact Rachel Shevland at 410-786-3026).

Dated: January 5, 2023.
William N. Parham, III,
Director, Paperwork Reduction Staff, Office of Strategic Operations and Regulatory Affairs.

[FR Doc. 2023-00275 Filed 1-9-23; 8:45 am]

BILLING CODE 4120-01-P